DEPARTMENT OF AGRICULTURE

Farm Service Agency

Information Collection; Request for Direct Loan Assistance

AGENCY: Farm Service Agency, USDA.

ACTION: Notice; request for comments.

SUMMARY: In accordance with the Paperwork Reduction Act of 1995, the Farm Service Agency is seeking comments from all interested individuals and organizations on the extension of currently approved information collection for a form used in support of the FSA, Farm Loan Programs (FLP). This extension of information collection does not involve any revisions to the program regulations.

DATES: Comments on this notice must be received on or before September 9, 2002 to be assured consideration.

ADDRESSES: Comments concerning this notice should be addressed to Bashir Duale, USDA, FSA, Farm Loan Programs, Loan Making Division, 1400 Independence Avenue, SW, STOP 0522, Washington DC 20250-0522. Copies of the information collection and comments received may be obtained from Bashir Duale at the above address.

FOR FURTHER INFORMATION CONTACT: Bashir Duale, Senior Loan Officer, USDA, Farm Service Agency, at (202) 720-1632 or by email to: bashir_duale@wdc.usda.gov. Individuals who use telecommunication device for the deaf (TDD) may call the Federal Information Relay Service (FIRS) at 1-800-877-8339 between 8 a.m. and 8 p.m., Eastern Standard Time, Monday through Friday.

SUPPLEMENTARY INFORMATION: Title: Request for Direct Loan Assistance.

OMB Control Number: 0560-0167.

Expiration Date of Approval: December 31, 2002.

Type of Request: Extension of Currently Approved Information Collection.

Abstract: Form FSA-410-1 is used for collecting information for making eligibility and financial feasibility determinations on respondents' requests for direct operating, farm ownership, and emergency loans and for currently indebted borrowers requesting loan servicing assistance as authorized under the Consolidated Farm and Rural Development Act. Travel time has been included in the Estimated Annual Burden on Respondents.

Estimate of Annual Burden: Average 1 hour.

Respondents: Individuals or households, businesses or other for profit and farms.

Estimated Number of Respondents: 46,812.

Estimated Number of Responses per Respondent: 1.

Estimated Total Annual Burden on Respondents: 93,624.

Invitation of Public Comment

Comment is invited on: (a) Whether the collection of information is necessary for the proper performance of the functions of the agency, including whether the information will have practical utility, (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Use of Public Comments

All comments received in response to this notice, including name and addresses when provided, will be a matter of public record. Comments will be summarized and included in the information collection submission for OMB approval.

Signed in Washington, DC, on June 28, 2002.
James Little,
Administrator, Farm Service Agency.

[FR Doc. 02-17451 Filed 7-10-02; 8:45 am]

BILLING CODE 3410-05-P